DEPARTMENT OF TRANSPORTATION

Federal Aviation Administration

Notice of Availability of the Final Environmental Impact Statement (Final EIS) for the Replacement of Runway 10R/28L, Development of a New Passenger Terminal, and Other Associated Airport Projects at Port Columbus International Airport (CMH)

AGENCY: Federal Aviation Administration, Department of Transportation.

ACTION: Notice of Availability and notice of 30-day public comment period.

SUMMARY: The FAA is issuing this Notice of Availability to advise the public that a Final EIS will be available for public review beginning March 20, 2009. The document was prepared pursuant to major environmental directives to comply with the National Environmental Policy Act (Pub. L. 91-190); Section 106 consultation for impacts to historic structures, as identified in 36 CFR Section 800.8, Coordination with the National Environmental Policy Act; U.S. Department of Transportation Section 303(c), formerly referred to as Section 4(f); and other applicable Federal and State environmental laws, regulations, and Executive Orders.

The Final EIS was prepared in response to a proposal presented to the FAA by the Columbus Regional Airport Authority (CRAA), the owner and operator of CMH and identified in the Final EIS as the Airport Sponsor, for environmental review.

The FAA prepared this Final EIS to analyze and disclose potential environmental impacts related to possible future Federal Actions at CMH. Numerous Federal actions would be necessary if airfield development were to be implemented. Proposed improvements include replacement of Runway 10R/28L, development of a new passenger terminal, and other airfield projects (see below).

The Final EIS presents the purpose and need for the proposed Federal action, analysis of reasonable alternatives, including the No Action Alternative, discussion of impacts for each reasonable alternative, the selection of the FAA's preferred alternative, proposed mitigation, and supporting appendices. The FAA will consider all information contained in the Final EIS and additional information that may be provided during the public comment period before issuing the Agency's Final Decision.

The Airport Sponsor proposes to replace existing Runway 10R/28L at CMH, approximately 700 feet south of the existing Runway 10R/28L; to develop new terminal facilities in the midfield area; to provide ancillary facilities in support of the replacement runway and midfield terminal; and to implement noise abatement air traffic procedures developed for the replacement runway.

The replacement runway would be 10,113 feet long. This length would maintain CMH's ability to accommodate current and projected airport operations. Existing Runway 10R/28L would be decommissioned as a runway and converted to a taxiway upon commissioning of the replacement runway. In addition, a south taxiway and north parallel taxiway to proposed Runway 10R/28L would be constructed.

To meet future aircraft parking and passenger processing requirements, new midfield terminal facilities are needed. The Final EIS assesses a development envelope that is defined as an area large enough to encompass Phase I and II of the CRAA terminal development program. The Final EIS discusses the number of gates, approximate square footage, approximate curb frontage, and the number of passengers that the terminal would accommodate.

Ancillary facilities in support of the replacement runway and midfield terminal would be constructed. The facilities include roadway relocations and construction; parking improvements; property acquisition; and relocation of residences, as necessary. The CRAA prepared a 14 CFR Part 150 Noise Compatibility Study Update (Part 150 Update) to address the current and future noise conditions. The Part 150 Update includes an analysis of the potential noise and land use impacts resulting from the proposed development of relocating Runway 10R/28L to the south, as well as possible mitigation options. The noise abatement air traffic options recommended through the Part 150 Update are included in the Final EIS as part of the proposed project. In addition, land use mitigation CRAA recommended in the Part 150 Update is included in the Final EIS as mitigation for the impacts resulting from the proposed project. The FAA issued its Record of Availability on May 19, 2008 and its approval of the Noise Compatibility Program on May 19, 2008 [FR Doc. E8-12591 Filed 6-6-08: 8:45 am].

Public Comment: The public comment period on the Final EIS starts on March 20, 2009 and closes on April 20, 2009.

Comments can only be accepted with the full name and address of the individual commenting. Mail and fax comments are to be submitted to Ms. Katherine S. Delaney of the FAA, at the address shown in FOR FURTHER INFORMATION CONTACT. E-mailed comments should be sent to cmheis@faa.gov. All comments must be postmarked or faxed no later than midnight, April 20, 2009. The Final EIS may be reviewed for comment during regular business hours at the following locations:

1. Federal Aviation Administration, Detroit Airports District Office, 11677 S. Wayne Road, Suite 107, Romulus, MI 48174 (Phone: 734-229-2900).

2. Columbus Regional Airport Authority, Port Columbus International Airport, Administrative Offices, 4600 International Gateway, Columbus, OH 43219 (Phone: 614-239-4063).

3. City of Gahanna, 200 South Hamilton Road, Gahanna, OH 43230 (Phone: 614-342-4000).

4. City of Whitehall, 360 South Yearling Road, Whitehall, OH 43213 (Phone: 614-338-3106).

5. Jefferson Township, 6545 Havens Road, Blacklick, OH 43004 (Phone: 614-855-4260).

6. City of Bexley, 2242 East Main Street, Bexley, OH 43209 (Phone: 614-327-6200).

7. City of Reynoldsburg, 7232 East Main Street, Reynoldsburg, OH 43068 (Phone: 614-322-6800).

8. Columbus Metropolitan Library, Main Branch, 96 South Grant Avenue, Columbus, OH 43215 (Phone: 614-645-2275).

9. Columbus Metropolitan Library, Gahanna Branch, 310 Granville Street, Gahanna, OH 43230 (Phone: 614-645-2275).

10. Columbus Metropolitan Library, Shepard Branch, 790 North Nelson Road, Columbus, OH 43219 (Phone: 614-645-2275).

11. Columbus Metropolitan Library, Linden Branch, 2432 Cleveland Avenue, Columbus, OH 43211 (Phone: 614-645-2275).

12. Columbus Metropolitan Library, Whitehall Branch, 4371 East Broad Street, Whitehall, OH 43213 (Phone: 614-645-2275).

13. Columbus Metropolitan Library, Reynoldsburg Branch, 1402 Brice Road, Reynoldsburg, OH 43068 (Phone: 614-645-2275).

14. Bexley Public Library, 2411 East Main Street, Bexley, OH 43209 (Phone: 614-231-2793).

15. CMH EIS Web site, http://www.airportsites.net/cmh-eis.

SUPPLEMENTARY INFORMATION: The comments should be as specific as possible. Comments should address the contents of the Final EIS, such as the analysis of potential environmental impacts, the adequacy of the proposed action to meet the stated need, or the merits of the various alternatives. This commenting procedure is intended to ensure that substantive comments and concerns are made available to the FAA in a timely manner, so that the FAA has an opportunity to address them.

FOR FURTHER INFORMATION CONTACT: Ms. Katherine S. Delaney, FAA Detroit Airports District Office, 11677 S. Wayne Road, Suite 107, Romulus, MI 48174. Telephone: (734) 229-2900, Fax: (734) 229-2950.

Issued in Romulus, Michigan on March 9, 2009.
Matthew J. Thys,
Manager, Detroit Airports District Office, Great Lakes Region.

[FR Doc. E9-6169 Filed 3-19-09; 8:45 am]

BILLING CODE 4910-13-P